DEPARTMENT OF TRANSPORTATION

Federal Railroad Administration

[Docket No. FRA-2011-0027; Notice No. 4]

Northeast Corridor Safety Committee; Notice of Meeting

AGENCY: Federal Railroad Administration (FRA), Department of Transportation (DOT).

ACTION: Announcement of the Northeast Corridor Safety Committee (NECSC) Meeting.

SUMMARY: FRA announces the second meeting of the NECSC, a Federal Advisory Committee mandated by Section 212 of the Passenger Rail Investment and Improvement Act of 2008 (PRIIA). The NECSC is made up of stakeholders operating on the Northeast Corridor (NEC), and the purpose of the Committee is to provide annual recommendations to the DOT Secretary. NECSC's meeting topics will include: Positive Train Control update presentations from NEC railroads, Transportation Security Administration NEC security initiatives, aging electric traction infrastructure, the Americans with Disabilities Act requirements, and a general discussion of safety issues.

DATES: The NECSC meeting is scheduled to commence on Thursday, May 24, 2012, at 9 a.m., and will adjourn by 4:30 p.m.

ADDRESSES: The NECSC meeting will be held at the Crowne Plaza Hotel Philadelphia Downtown, located at 1800 Market Street, Philadelphia, PA. The meeting is open to the public on a first-come, first-served basis, and is accessible to individuals with disabilities. Sign and oral interpretation can be made available if requested 10 calendar days before the meeting.

FOR FURTHER INFORMATION CONTACT: Mr. Larry Woolverton, NECSC Administrative Officer/Coordinator, FRA, 1200 New Jersey Avenue SE., Mailstop 25, Washington, DC 20590, (202) 493-6212; or Mr. Robert Lauby, Acting Associate Administrator for Railroad Safety/Chief Safety Officer, FRA, 1200 New Jersey Avenue SE., Mailstop 25, Washington, DC 20590, (202) 493-6300.

SUPPLEMENTARY INFORMATION: The NECSC is mandated by a statutory provision in Section 212 of the PRIIA (codified at 49 U.S.C. 24905(f)). This Committee is chartered by the DOT Secretary and is an official Federal Advisory Committee established in accordance with the provisions of the Federal Advisory Committee Act, as amended, Title 5 U.S.C.—Appendix.

Issued in Washington, DC, on March 30, 2012.
Robert C. Lauby,
Acting Associate Administrator for Railroad Safety/Chief Safety Officer.

[FR Doc. 2012-8134 Filed 4-4-12; 8:45 am]

BILLING CODE 4910-06-P